NUCLEAR REGULATORY COMMISSION

Sunshine Act Meetings

AGENCY HOLDING THE MEETING: Nuclear Regulatory Commission.

DATES: Weeks of April 24, May 1, 8, 15, 22 and 29, 2000.

PLACE: Commissioners' Conference Room, 11555 Rockville Pike, Rockville, MD.

STATUS: Public and closed.

MATTERS TO BE CONSIDERED:

Week of April 24

There are no meetings scheduled for the Week of April 24.

Week of May 1—Tentative

Tuesday, May 2

9:30 a.m. Briefing on Oconee License Renewal (public meeting)

(Contact: Dave Lange, 301-415-1730)

Wednesday, May 3

9:25 a.m. Affirmation Session (public meeting) (if needed)

9:30 a.m. Briefing on Efforts Regarding Release of Solid Material (public meeting)

(Contact: Frank Cardile, 301-415-6185)

Week of May 8—Tentative

Monday, May 8

10 a.m. Briefing on Lessons Learned from the Nuclear Criticality Accident at Tokai-Mura and the Implications on the NRC's Program (public meeting)

(Contact: Bill Troskoski, 301-415-8076)

Tuesday, May 9

8:55 a.m. Affirmation Session (public meeting) (if needed)

9 a.m. Meeting with Stakeholders on Efforts Regarding Release of Solid Material (public meeting)

Contact: Frank Cardile, 301-415-6185)

Week of May 15—Tentative

Tuesday, May 16

9:25 a.m. Affirmation Session (public meeting) (if needed)

Week of May 22—Tentative

Thursday, May 25

8:30 a.m. Briefing on Operating Reactors and Fuel Facilities (public meeting)

10:15 a.m. Briefing on Status of Regional Programs, Performance and Plans (public meeting)

1:30 p.m. Briefing on Improvements to 2.206 Process (public meeting)

Week of May 29—Tentative

Tuesday, May 30

9:25 a.m. Affirmation Session (public meeting) (if needed)

The schedule for Commission meetings is subject to change on short notice. To verify the status of meetings call (recording)—(301) 415-1292.

CONTACT PERSON FOR MORE INFORMATION: Bill Hill, (301) 415-1661.

The NRC Commission Meeting Schedule can be found on the Internet at http://www.nrc.gov/SECY/smj/schedule.htm.

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: April 21, 2000.
William M. Hill, Jr.,
SECY Tracking Officer, Office of the Secretary.

[FR Doc. 00-10506 Filed 4-24-00; 12:45 am]

BILLING CODE 7590-01-M